DEPARTMENT OF LABOR

Occupational Safety and Health Administration

[Docket No. OSHA-2024-0005]

National Advisory Committee on Occupational Safety and Health (NACOSH): Notice of Meeting

AGENCY: Occupational Safety and Health Administration (OSHA), Labor.

ACTION: Notice of NACOSH meeting.

SUMMARY: The National Advisory Committee on Occupational Safety and Health (NACOSH) will meet September 9, 2024, by teleconference and WebEx.

DATES: NACOSH will meet from 10 a.m. to 12 p.m., ET, Monday, September 9, 2024.

ADDRESSES:

Submission of comments and requests to speak: Comments and requests to speak at the NACOSH meeting, including attachments, must be submitted electronically at www.regulations.gov, the Federal eRulemaking Portal by September 3, 2024. Comments must identify the docket number for this Federal Register notice (Docket No. OSHA-2024-0005). Follow the online instructions for submitting comments.

Registration: All persons wishing to attend this virtual meeting must register via the registration link on the NACOSH web page at https://www.osha.gov/advisorycommittee/nacosh. Upon registration, attendees will receive a WebEx link and dial-in information to access the meeting remotely.

Requests for special accommodations: Submit requests for special accommodations, including translation services, for this NACOSH meeting by September 3, 2024, to Ms. Janae Hughley, Directorate of Standards and Guidance, OSHA, U.S. Department of Labor; telephone: (202) 693-2294; email: hughley.janae.a@dol.gov.

Instructions: All submissions must include the agency name and the OSHA docket number for this Federal Register notice (Docket No. OSHA-2024-0005). OSHA will place comments and requests to speak, including personal information, in the public docket, which may be available online. Therefore, OSHA cautions interested parties about submitting personal information such as Social Security numbers and birthdates.

Docket: To read or download documents in the public docket for this NACOSH meeting, go to http://www.regulations.gov. All documents in the public docket are listed in the index; however, some documents (e.g., copyrighted material) are not publicly available to read or download through http://www.regulations.gov. All submissions are available for inspection and, when permitted, copying through the OSHA Docket Office at the above address. For information on using http://www.regulations.gov to make submissions or to access the docket, click on the “Help” tab at the top of the homepage. Contact the OSHA Docket Office at (202) 693-2350 for information about materials not available through that website and for assistance in using the internet to locate submissions and other documents in the docket.

FOR FURTHER INFORMATION CONTACT:

For press inquiries: Mr. Frank Meilinger, Director, OSHA Office of Communications, U.S. Department of Labor; telephone: (202) 693-1999; email: meilinger.francis2@dol.gov.

For general information about NACOSH: Ms. Amy Wangdahl, Director, Office of Maritime and Agriculture, OSHA, U.S. Department of Labor; telephone: (202) 693-2066; email: wangdahl.amy@dol.gov.

Telecommunication requirements: For additional information about the telecommunication requirements for the meeting, please contact Ms. Janae Hughley, Directorate of Standards and Guidance, OSHA, U.S. Department of Labor; telephone: (202) 693-2294; email: hughley.janae.a@dol.gov.

For copies of this Federal Register Notice: Electronic copies of this Federal Register notice are available at www.regulations.gov. This notice, as well as news releases and other relevant information, are also available at OSHA's web page at https://www.osha.gov/advisorycommittee/nacosh.

SUPPLEMENTARY INFORMATION:

I. Background

NACOSH was established by section 7(a) of the Occupational Safety and Health Act of 1970 (OSH Act) (29 U.S.C. 651, 656) to advise, consult with, and make recommendations to the Secretary of Labor and the Secretary of Health and Human Services on matters relating to the administration of the OSH Act. NACOSH is a continuing advisory committee of indefinite duration.

NACOSH operates in accordance with the Federal Advisory Committee Act (FACA) (5 U.S.C. 1001 et seq.), its implementing regulations (41 CFR part 102-3), and OSHA's regulations on NACOSH (29 CFR 1912.5 and 29 CFR part 1912a).

II. Meeting Information

Public attendance will be in virtually via WebEx. Meeting information will be posted in the docket (Docket No. OSHA-2024-0005) and on the NACOSH web page, https://www.osha.gov/advisorycommittee/nacosh, prior to the meeting.

NACOSH will meet from 10 a.m. to 12 p.m., ET on September 9, 2024.

Meeting agenda: The tentative agenda for this meeting includes:

• OSHA Updates;

• NIOSH Updates;

• OSHA Recognition Program Updates; and

• Safety as a Core Value Update.

Authority and Signature

James S. Frederick, Deputy Assistant Secretary of Labor for Occupational Safety and Health, authorized the preparation of this notice under the authority granted by 29 U.S.C. 655(b)(1) and 656(b), 5 U.S.C. 1001 et seq., 29 CFR part 1912 and 1912a, and Secretary of Labor's Order No. 8-2020 (85 FR 58393, September 18, 2020).

Signed at Washington, DC, on August 13, 2024.
James S. Frederick,
Deputy Assistant Secretary of Labor for Occupational Safety and Health.

[FR Doc. 2024-18509 Filed 8-16-24; 8:45 am]

BILLING CODE 4510-26-P